FEDERAL COMMUNICATIONS COMMISSION

47 CFR Parts 1, 51 and 63

[GC Docket No. 10-44; FCC 14-183]

Amendment of the Commission's Rules of Practice and Procedure; Electronic Filing of Domestic Section 214 Applications and Notices of Network Changes

AGENCY: Federal Communications Commission.

ACTION: Final rule.

SUMMARY: In this document, the Commission amends procedural rules to require electronic filing through the Commission's Electronic Comment Filing System (ECFS) for three common types of wireline proceedings: applications for authorization of domestic transfers of control; applications for authorization to discontinue, reduce, or impair a service; and notices of network changes. The rules establish three electronic inboxes within ECFS to handle the initial filing of the above-identified applications and notices, which have previously been filed only on paper. Accepted applications and notices will receive a distinct ECFS docket number. The Commission expects to continue to expand capabilities for online filing and intends to work toward the goal of providing such capabilities for every type of filing that the public might submit.

DATES: Effective February 12, 2015.

FOR FURTHER INFORMATION CONTACT: Jodie May, Wireline Competition Bureau, Federal Communications Commission, Jodie.May@fcc.gov, (202) 418-0913; Rodney McDonald, Wireline Competition Bureau, Federal Communications Commission, Rodney.McDonald@fcc.gov, (202) 418-7513.

SUPPLEMENTARY INFORMATION: This is a summary of the Commission's Order, FCC 14-183, GC Docket No. 10-44, adopted on November 19, 2014 and released on November 26, 2014. The complete text of this document is available for public inspection during regular business hours in the FCC Reference Information Center, Portals II, 445 12th Street SW., Room CY-A257, Washington, DC 20554. The document may also be purchased from the Commission's duplicating contractor, Best Copy and Printing, Inc., 445 12th Street SW., Room CY-B402, Washington, DC 20554, telephone (800) 378-3160 or (202) 863-2893, facsimile (202) 863-2898, or via the Internet at http://www.bcpiweb.com. It is available on the Commission's Web site at http://www.fcc.gov.

Summary

The Order revises several sections of 47 CFR parts 1, 51, and 63. The rule changes will facilitate and enhance public participation in Commission domestic 214 and network change notification proceedings, thereby making the Commission's decision-making process more efficient, modern, and transparent.

Regulatory Flexibility Act

The actions taken in the Order do not require notice and comment, and therefore fall outside the Regulatory Flexibility Act of 1980, 5 U.S.C. 601(2); 603(a), as amended. We nonetheless anticipate that the rules we adopt today will not have a significant economic impact on a substantial number of small entities. As described above, the rules relate to our internal procedures and do not impose new substantive responsibilities on regulated entities. There is no reason to believe that operation of the revised rules will impose significant costs on parties to Commission proceedings. To the contrary, we take today's actions with the expectation that, overall, they will make dealings with the Commission quicker, easier, and less costly for entities of all sizes.

Paperwork Reduction Act

Although the rule sections affected by this proceeding have information collections associated with them, the Office of Management and Budget has determined that, under the Paperwork Reduction Act of 1995, Public Law 104-13, 109 Stat. 163 (1995) (codified at 44 U.S.C. 3501 et seq.), these changes are not substantive in nature and will not result in any new or modified information collections.

Congressional Review Act

The Commission will send a copy of the Order in a report to be sent to Congress and the Government Accountability Office pursuant to the Congressional Review Act, see 5 U.S.C. 801(a)(1)(A).

Ordering Clause

Accordingly, it is ordered, pursuant to sections 4(i), 4(j), 214, and 251 of the Communications Act of 1934, as amended, 47 U.S.C. 154(i), 154(j), 214, 251, that the rules set forth are adopted, effective February 12, 2015.

It is further ordered, pursuant to sections 4(i), 4(j), 214, and 251 of the Communications Act of 1934, as amended, 47 U.S.C. 154(i), 154(j), 214, 251, and § 1.3 of the Commission's rules, 47 CFR 1.3, that, effective upon release of the Order, §§ 1.49, 51.329, 63.52, 63.53, 63.63, 63.71, 47 CFR 1.49, 51.329, 63.52, 63.53, 63.63, 63.71, are WAIVED to the extent necessary to permit online electronic filing in accordance with the processes discussed in this Order. This waiver is effective upon release of the Order and until the effective date of the rule changes ordered in the previous paragraph.

List of Subjects in 47 CFR parts 1, 51 and 63

Administrative practice and procedure; Communications common carriers; Interconnection; Telecommunications.

Federal Communications Commission.
Marlene H. Dortch,
Secretary.

For the reasons discussed in the preamble, the Federal Communications Commission amends 47 CFR parts 1, 51 and 63 as follows:

PART 1—PRACTICE AND PROCEDURE

1. The authority citation for part 1 continues to read as follows:

Authority: 15 U.S.C. 79 et seq.; 47 U.S.C. 151, 154(i), 154(j), 155, 157, 225, 227, 303(r), 309, 1403, 1404, 1451, and 1452.

2. Section 1.49 is amended by revising paragraphs (f)(1)(iv) and (v), adding paragraphs (f)(1)(vi) through (viii), revising paragraph (f)(2) introductory text, and paragraphs (f)(2)(iii) and (iv), adding paragraph (f)(2)(v); redesignating paragraph (f)(3) as paragraph (f)(4), adding a new paragraph (f)(3), and revising the newly redesignated paragraph (f)(4) to read as follows:

§ 1.49 Specifications as to pleadings and documents.

* * * * *

(f) * * *

(1) * * *

(iv) Proceedings involving Over-the-Air Reception Devices;

(v) Common carrier certifications under § 54.314 of this chapter;

(vi) Domestic Section 214 transfer-of-control applications pursuant to §§ 63.52 and 63.53 of this chapter;

(vii) Domestic Section 214 discontinuance applications pursuant to §§ 63.63 and/or 63.71 of this chapter; and

(viii) Notices of network change and associated certifications pursuant to § 51.325 et seq. of this chapter.

(2) Unless required under paragraph (f)(1) of this section, in the following types of proceedings, all pleadings, including permissible ex parte submissions, notices of ex parte presentations, comments, reply comments, and petitions for reconsideration and replies thereto, may be filed in electronic format:

* * * * *

(iii) Petition for rulemaking proceedings (except broadcast allotment proceedings);

(iv) Petition for forbearance proceedings; and

(v) Filings responsive to domestic section 214 transfers under § 63.03 of this chapter, section 214 discontinuances under § 63.71 of this chapter, and notices of network change under § 51.325 et seq. of this chapter.

(3) To further greater reliance on electronic filing wherever possible, the Bureaus and Offices, in coordination with the Managing Director, may provide to the public capabilities for electronic filing of additional types of pleadings notwithstanding any provisions of this chapter that may otherwise be construed as requiring such filings to be submitted on paper.

(4) For purposes of compliance with any prescribed pleading lengths, the length of any document filed in electronic form shall be equal to the length of the document if printed out and formatted according to the specifications of paragraph (a) of this section, or shall be no more than 250 words per page.

PART 51—INTERCONNECTION

3. The authority citation for part 51 continues to read as follows:

Authority: Sections 1-5, 7, 201-05, 207-09, 218, 220, 225-27, 251-54, 256, 271, 303(r), 332, 706 of the Telecommunication Act of 1996, 48 Stat. 1070, as amended, 1077; 47 U.S.C. 151-55, 157, 201-05, 207-09, 218, 220, 225-27, 251-54, 256, 271, 303(r), 332, 1302, 47 U.S.C. 157 note, unless otherwise noted.

4. Section 51.329 is amended by revising paragraph (c)(2) to read as follows:

§ 51.329 Notice of network changes: Methods for providing notice.

* * * * *

(c) * * *

(2) The incumbent LEC's public notice and any associated certifications shall be filed through the Commission's Electronic Comment Filing System (ECFS), using the “Submit a Non-Docketed Filing” module. All subsequent filings responsive to a notice may be filed using the Commission's ECFS under the docket number set forth in the Commission's public notice for the proceeding. Subsequent filings responsive to a notice also may be filed by sending one paper copy of the filing to “Secretary, Federal Communications Commission, Washington, DC 20554” and one paper copy of the filing to “Federal Communications Commission, Wireline Competition Bureau, Competition Policy Division, Washington, DC 20554.” For notices filed using the Commission's ECFS, the date on which the filing is received by that system will be considered the official filing date. For notices filed via paper copy, the date on which the filing is received by the Secretary or the FCC Mailroom is considered the official filing date. All subsequent filings responsive to a notice shall refer to the ECFS docket number assigned to the notice.

PART 63—EXTENSION OF LINES, NEW LINES, AND DISCONTINUANCE, REDUCTION, OUTAGE AND IMPAIRMENT OF SERVICE BY COMMON CARRIERS; AND GRANTS OF RECOGNIZED PRIVATE OPERATING AGENCY STATUS

5. The authority citation for part 63 continues to read as follows:

Authority: Sections 1, 4(i), 4(j), 10, 11, 201-205, 214, 218, 403 and 651 of the Communications Act of 1934, as amended, 47 U.S.C. 151, 154(i), 154(j), 160, 201-205, 214, 218, 403, and 571, unless otherwise noted.

6. Section 63.52 is amended by revising paragraphs (a) and (c) to read as follows:

§ 63.52 Copies required; fees and filing periods for domestic authorizations.

(a) Applications filed under section 214 of the Communications Act for domestic authority must be filed electronically with the Commission through the Electronic Comment Filing System (ECFS). Each domestic transfer of control application shall be accompanied by the fee prescribed in subpart G of part 1 of this chapter.

* * * * *

(c) Any interested party may file a petition to deny an application within the 30-day or other time period specified in paragraph (b) of this section. The petitioner shall serve a copy of such petition on the applicant via electronic mail or paper copy no later than the date of filing thereof with the Commission. The petition shall contain specific allegations of fact sufficient to show that the petitioner is a party in interest and that a grant of the application would be prima facie inconsistent with the public interest, convenience and necessity. Such allegations of fact shall, except for those of which official notice may be taken, be supported by affidavit of a person or persons with personal knowledge thereof. The applicant may file an opposition to any petition to deny, and the petitioners may file a reply to such opposition (see § 1.45 of this chapter), and allegations of facts or denials thereof shall similarly be supported by affidavit. These responsive pleadings shall be served on the applicant or petitioners, as appropriate, and other parties to the proceeding.

7. Section 63.53 is amended by revising paragraph (b) to read as follows:

§ 63.53 Form.

* * * * *

(b) Applications for domestic service under section 214 of the Communications Act must be filed electronically with the Commission. For applications filed electronically and subject to a processing fee it is not necessary to send the original or any copies with the fee payment. Unless specified otherwise all applications and other filings described in this section must be filed electronically through the “Submit a Non-Docketed Filing” module of the Commission's Electronic Comment Filing System. For information on electronic filing requirements, see the ECFS homepage at http://apps.fcc.gov/ecfs/. See also § 63.52.

* * * * *

8. Section 63.63 is amended by revising paragraph (a) introductory text to read as follows:

§ 63.63 Emergency discontinuance, reduction or impairment of service.

(a) Application for authority for emergency discontinuance, reduction, or impairment of service shall be made by electronically filing an informal request through the “Submit a Non-Docketed Filing” module of the Commission's Electronic Comment Filing System. Such requests shall be made as soon as practicable but not later than 15 days in the case of public coast stations, or 65 days in all other cases, after the occurrence of the conditions which have occasioned the discontinuance, reduction, or impairment. The request shall make reference to this section and show the following:

* * * * *

9. Section 63.71 is amended by revising paragraph (a)(5)(i) and (ii), redesignating paragraphs (c) and (d) as paragraphs (d) and (e), and adding new paragraph (c) to read as follows:

§ 63.71 Procedures for discontinuance, reduction or impairment of service by domestic carriers.

(a) * * *

(5) * * *

(i) If the carrier is non-dominant with respect to the service being discontinued, reduced or impaired, the notice shall state: The FCC will normally authorize this proposed discontinuance of service (or reduction or impairment) unless it is shown that customers would be unable to receive service or a reasonable substitute from another carrier or that the public convenience and necessity is otherwise adversely affected. If you wish to object, you should file your comments as soon as possible, but no later than 15 days after the Commission releases public notice of the proposed discontinuance. You may file your comments electronically through the FCC's Electronic Comment Filing System using the docket number established in the Commission's public notice for this proceeding, or you may address them to the Federal Communications Commission, Wireline Competition Bureau, Competition Policy Division, Washington, DC 20554, and include in your comments a reference to the § 63.71 Application of (carrier's name). Comments should include specific information about the impact of this proposed discontinuance (or reduction or impairment) upon you or your company, including any inability to acquire reasonable substitute service.

(ii) If the carrier is dominant with respect to the service being discontinued, reduced or impaired, the notice shall state: The FCC will normally authorize this proposed discontinuance of service (or reduction or impairment) unless it is shown that customers would be unable to receive service or a reasonable substitute from another carrier or that the public convenience and necessity is otherwise adversely affected. If you wish to object, you should file your comments as soon as possible, but no later than 30 days after the Commission releases public notice of the proposed discontinuance. You may file your comments electronically through the FCC's Electronic Comment Filing System using the docket number established in the Commission's public notice for this proceeding, or you may address them to the Federal Communications Commission, Wireline Competition Bureau, Competition Policy Division, Washington, DC 20554, and include in your comments a reference to the § 63.71 Application of (carrier's name). Comments should include specific information about the impact of this proposed discontinuance (or reduction or impairment) upon you or your company, including any inability to acquire reasonable substitute service.

* * * * *

(c) Discontinuance applications and all related attachments to the application filed under this section shall be filed through the “Submit a Non-Docketed Filing” module of the Commission's Electronic Comment Filing System.

* * * * *

[FR Doc. 2015-00335 Filed 1-12-15; 8:45 am]

BILLING CODE 6712-01-P